DEPARTMENT OF VETERANS AFFAIRS

[OMB Control No. 2900-0853]

Agency Information Collection Activity: Application for Approval of a Program in a Foreign Country

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice.

DATES: Written comments and recommendations on the proposed collection of information should be received on or before July 5, 2022.

ADDRESSES: Submit written comments on the collection of information through Federal Docket Management System (FDMS) at www.Regulations.gov or to Nancy J. Kessinger, Veterans Benefits Administration (20M33), Department of Veterans Affairs, 810 Vermont Avenue NW, Washington, DC 20420 or email to nancy.kessinger@va.gov. Please refer to “OMB Control No. 2900-0853” in any correspondence. During the comment period, comments may be viewed online through FDMS.

FOR FURTHER INFORMATION CONTACT: Maribel Aponte, Office of Enterprise and Integration, Data Governance Analytics (008), 1717 H Street NW, Washington, DC 20006, (202) 266-4688 or email maribel.aponte@va.gov. Please refer to “OMB Control No. 2900-0853” in any correspondence.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: 38 CFR 21.4260; Public Law 115-407; Public Law 116.135, sections 1019 and 1020.

Title: Application for Approval of a Program in a Foreign Country.

OMB Control Number: 2900-0853.

Type of Review: Revision of a currently approved collection.

Abstract: VA will use the information collected to determine if a program in a foreign country is approvable under CFR 21.4260. For a review and decision to be made, the VA needs supporting information from a foreign educational institution.

The Application for Approval of a Program in a Foreign Country, VA Form 22-0976 OMB ICR #2900-0853 is being submitted as a “Revision”. We are changing the formatting of the form, as well as changing most of the existing questions to be written in the form of a statement. There is no change to the current burden as a result of making these revisions.

Currently, the VA Form 22-0976 questions are written to solicit YES/NO responses regarding compliance to the current and new provisions established for foreign institutions. We believe the questions should be instead written and displayed in the form of a statement to indicate the VA requirements necessary for the achievement of compliance for foreign institutions.

Public Law 116-135, Johnny Isakson and David P. Roe, M.D. Veterans Health Care and Benefits Improvement Act of 2020 amended a number of VA benefits that requires the revision of VA Form 22-0976 to comply with these changes. The VA Form 22-0976 is the official application that all foreign institutions outside of the United States must use to formally request foreign program approval for GI Bill benefits from VA.

The current form is inadequate to comply with both the current and new changes in the law. Therefore, the purpose of revising VA Form 22-0976 is to support the provisions of Public Law 116-135, and the Veterans Benefits and Transition Act of 2018, Public Law 115-407 necessary for foreign institutions to acknowledge and adhered to the requirement of Section 104 of this law. The provisions of this law require foreign institutions to allow eligible individuals to stay enrolled in courses of education pending the receipt of educational assistance from Department of Veterans Affairs. The institution's policy must ensure that they will not impose any penalty, including the assessment of late fees, the denial of access to classes, libraries, or other institutional facilities, or make it a requirement that a covered individual borrow additional funds because of the individual's inability to meet his or her financial obligations to the institution due to the delayed disbursement funding from VA under chapter 31 or 33.

The purpose of revising this form also supports the provisions of Isakson and ROE, Public Law 116-315, Sections 1019 and 1020. Section 1019 requires schools and training programs to be financially responsible (School Liability), instead of the student, for payments which are directly paid to an educational institution pursuant to the Post-9/11 GI Bill, (i.e., payments paid to an educational institution pursuant to the Yellow Ribbon GI Education Enhancement program and the Advance payments of the initial educational assistance to an institution.). Section 1020 limits the type of Advertising, Sales, and Marketing that schools can conduct and remain eligible for GI Bill funds. This section would also create a tiered penalty system against institutions that do not comply with the law and set up a mechanism for institutions to work with the SAAs and VA on coming back into compliance, and for institutions to not engage in advertising and/or enrollment practices of any type, which are erroneous, deceptive, or misleading either by actual statement, omission, or intimidation.

Affected Public: Education Institutions.

Estimated Annual Burden: 338 hours.

Estimated Average Burden Time per Respondent: 20 minutes.

Frequency of Response: Once.

Estimated Number of Respondents: 1,014.

By direction of the Secretary.
Maribel Aponte,
VA PRA Clearance Officer, Office of Enterprise and Integration/Data Governance Analytics, Department of Veterans Affairs.

[FR Doc. 2022-09428 Filed 5-2-22; 8:45 am]

BILLING CODE 8320-01-P